COMMITTEE FOR THE IMPLEMENTATION OF TEXTILE AGREEMENTS

Denial of Short Supply Request under the United States - Caribbean Basin Trade Partnership Act (CBTPA)

March 5, 2002.

AGENCY: Committee for the Implementation of Textile Agreements (CITA).

ACTION: Denial of the petition alleging that certain fabrics used in women’s and girls’ blouses cannot be supplied by the domestic industry in commercial quantities in a timely manner.

SUMMARY: On January 4, 2002 the Chairman of CITA received a petition from School Apparel, Inc. alleging that certain fabrics, classified in subheadings 5210.21 and 5210.31 of the Harmonized Tariff Schedule of the United States (HTSUS) cannot be supplied by the domestic industry in commercial quantities in a timely manner. It requested that women’s and girls’ blouses of such fabric be eligible for preferential treatment under the CBTPA. Based on currently available information, CITA has determined that these subject fabrics can be supplied by the domestic industry in commercial quantities in a timely manner and therefore denies the petition.

FOR FURTHER INFORMATION CONTACT: Janet Heinzen, International Trade Specialist, Office of Textiles and Apparel, U.S. Department of Commerce, (202) 482-3400.

SUPPLEMENTARY INFORMATION:

Authority: Section 213(b)(2)(A)(v)(II) of the Caribbean Basin Economic Recovery Act, as added by Section 211(a) of the CBTPA; Section 6 of Executive Order No. 13191 of January 17, 2001.

BACKGROUND:

The CBTPA provides for quota- and duty-free treatment for qualifying textile and apparel products. Such treatment is generally limited to products manufactured from yarns or fabrics formed in the United States or a beneficiary country. The CBTPA also provides for quota- and duty-free treatment for apparel articles that are both cut (or knit-to-shape) and sewn or otherwise assembled in one or more CBTPA beneficiary countries from fabric or yarn that is not formed in the United States or a CBTPA beneficiary country, if it has been determined that such fabric or yarn cannot be supplied by the domestic industry in commercial quantities in a timely manner. In Executive Order No. 13191, the President delegated to CITA the authority to determine whether yarns or fabrics cannot be supplied by the domestic industry in commercial quantities in a timely manner under the CBTPA. On March 6, 2001, CITA published procedures that it will follow in considering requests. (66 FR 13502).

On January 4, 2002 the Chairman of CITA received a petition from School Apparel, Inc. alleging that certain fabrics, classified in subheadings 5210.21 and 5210.31 of the HTSUS, not of square construction, containing more than 70 warp ends and filling picks per square centimeter, of average yarn number exceeding 70 metric, cannot be supplied by the domestic industry in commercial quantities in a timely manner. It requested that women’s and girls’ blouses of such fabrics be eligible for preferential treatment under the CBTPA.

On January 10, 2002, CITA solicited public comments regarding this request ( 67 FR 1330) particularly with respect to whether these fabrics can be supplied by the domestic industry in commercial quantities in a timely manner. On January 29, 2002, CITA and the Office of the U.S. Trade Representative offered to hold consultations with the relevant Congressional committees. We also requested that advice of the U.S. International Trade Commission and the relevant Industry Sector Advisory Committees.

CITA has determined that certain fabrics, classified in sub-headings 5210.21 and 5210.31 of the HTSUS, not of square construction, containing more than 70 warp ends and filling picks per square centimeter, of average yarn number exceeding 70 metric, used in the production of women’s and girls’ blouses, can be supplied by the domestic industry in commercial quantities in a timely manner. On the basis of currently available information, including its review of the petition, public comments and advice received, and its understanding of the industry, CITA has found that there is domestic capacity to produce these fabrics. School Apparel’s request is denied.

D. Michael Hutchinson,
Acting Chairman, Committee for the Implementation of Textile Agreements.

[FR Doc.02-5699 Filed 3-6-02; 11:53 am]

BILLING CODE 3510-DR-S